Title 3—

The President

Proclamation 7369 of October 24, 2000

United Nations Day, 2000

By the President of the United States of America

A Proclamation

Fifty-five years ago, the United States played a leading role in founding the United Nations, and the treaty creating the U.N. was signed in San Francisco. Today, we are proud to serve as host country for the United Nations, whose headquarters in New York City stands as an enduring symbol of the promise of international peace and cooperation.

The United States remains fully committed to the principles of the United Nations Charter, and we support efforts to make the U.N. a more effective tool to meet the challenges of our changing world. Many of those challenges—poverty, disease, ethnic violence, and regional conflict—recognize no borders and can only be addressed by nations working together with shared resources and common goals. The United Nations is uniquely positioned to facilitate such collaborative efforts.

Today, more than half the world's people live under governments of their own choosing, an achievement that reflects the role the U.N. has played as a steadfast peacemaker and staunch advocate of international human rights. But three- fourths of those people live in developing countries, and more than a billion of them live in abject poverty. Through agencies such as the World Bank and the International Monetary Fund, the U.N. is working to address this gap between the world's richest and poorest countries by supporting comprehensive debt relief and providing billions of dollars in loans and grants to developing nations for projects that promote health, nutrition, education, entrepreneurship, and civil society.

While the devastating world wars of the 20th century are now a part of history, ethnic and regional conflicts continue to threaten global stability and contribute to human misery. Millions of innocent people have lost their lives in such conflicts, and millions of families have been driven from their homelands to seek refuge in neighboring nations. Through its international diplomacy efforts, peacekeeping operations, and humanitarian assistance, the United Nations serves as a beacon of hope for countries torn apart by ethnic, religious, or regional strife.

In September of this year, the leaders of 189 countries came together in New York at the United Nations Millennium Summit. This unprecedented gathering of international leaders reaffirmed that the importance of the U.N.'s mission is undiminished after more than 5 decades of extraordinary challenge and global change.

As we observe United Nations Day this year, let us celebrate the spirit of international cooperation and dedication to peace enshrined in the U.N. Charter. For 55 years, the United Nations has led the world in addressing international security problems and promoting human rights and human dignity. Today we reaffirm our commitment to this vital institution and pledge to work with other member nations to ensure that the U.N. is equipped with the resources it needs to remain a powerful instrument of the international community and an effective force for the common good.

NOW, THEREFORE, I, WILLIAM J. CLINTON, President of the United States of America, by virtue of the authority vested in me by the Constitution and laws of the United States, do hereby proclaim October 24, 2000, as United Nations Day. I encourage all Americans to educate themselves about the activities and accomplishments of the United Nations and to observe this day with appropriate ceremonies, programs, and activities devoted to enhancing international cooperation.

IN WITNESS WHEREOF, I have hereunto set my hand this twenty-fourth day of October, in the year of our Lord two thousand, and of the Independence of the United States of America the two hundred and twenty-fifth.

wj

[FR Doc. 00-27831

Filed 10-26-00; 8:45 am]

Billing code 3195-01-P